POSTAL REGULATORY COMMISSION

[Docket No. C2025-7; Presiding Officer's Ruling No. 2]

Deadline To File a Notice of Intervention

AGENCY: Postal Regulatory Commission.

ACTION: Notice.

SUMMARY: The Commission is providing notice of the deadline to file a notice of intervention and establishing additional discovery procedures.

DATES: Notice of Intervention due: August 1, 2025.

FOR FURTHER INFORMATION CONTACT: David A. Trissell, General Counsel, at 202-789-6820.

SUPPLEMENTARY INFORMATION:

I. Procedural Schedule

II. Ruling

I. Procedural Schedule

The deadline to file a notice of intervention pursuant to 39 CFR 3010.142 is August 1, 2025.

Pursuant to Order No. 8827, the Presiding Officer shall conduct limited discovery for the purpose of determining disputed issues of fact in this case.¹ The parties shall email their initial written information requests to the opposing party (and cc'ing the Presiding Officer) no later than July 11, 2025, at 4:30 p.m. All fact discovery shall be completed by October 10, 2025.

¹ Order Partially Denying United States Postal Service's Motion to Dismiss the February 5, 2025 Amended Complaint and Notice of Limited Formal Proceedings, May 1, 2025, at 22 (Order No. 8827).

II. Ruling

1. The deadline to file a notice of intervention pursuant to 39 CFR 3010.142 is August 1, 2025.

2. The parties and counsel shall follow the procedural schedule and case management procedures established by this Presiding Officer's Ruling.

3. The Secretary shall arrange for publication of this ruling (or abstract thereof) in the Federal Register.

Erica A. Barker,
Secretary.

[FR Doc. 2025-11122 Filed 6-16-25; 8:45 am]

BILLING CODE 7710-FW-P